DEPARTMENT OF JUSTICE

[AAG/A Order No. 216-2001]

Privacy Act of 1974; System of Records

Pursuant to the provisions of the Privacy Act of 1974 (5 U.S.C. 552a), notice is hereby given that the Department of Justice proposes to establish a new system of records to be maintained by the Immigration and Naturalization Service (INS).

The I-551 Renewal Program Temporary Sticker Issuance I-90 Manifest System (SIIMS), JUSTICE/INS-033, is a new system of records for which no public notice consistent with the provisions of 5 U.S.C. 552a(e)(4) and (11) has been published.

In accordance with 5 U.S.C. 552a(e) and (11), the public is given a 30-day period in which to comment on proposed routine use disclosures. The Office of Management and Budget (OMB), which has oversight responsibilities under the Act, requires a 40-day period in which to conclude its review of the proposal. OMB, the Congress, and the public, are invited to send written comments to Mary Cahill, Management Analyst, Management and Planning Staff, Justice Management Division, Department of Justice, Washington, DC 20530 (Room 1400, National Place Building).

In accordance with 5 U.S.C. 552a, the Department has provided a report to OMB and the Congress.

Dated: January 8, 2001.
Stephen R. Colgate,
Assistant Attorney General for Administration.

JUSTICE/INS-033

SYSTEM NAME:

I—551 Renewal Program Temporary Sticker Issuance I-90 Manifest System (SIIMS).

SYSTEM LOCATION:

Immigration and Naturalization Service (INS) Headquarters, Service Centers, District Offices, sub-offices, and Ports of Entry, as detailed in JUSTICE/INS-999, published April 13, 1999 (64 FR 18052).

CATEGORIES OF INDIVIDUALS COVERED BY THE SYSTEM:

Individuals who are: covered by provisions of the Immigration and Nationality Act of the United States; have been lawfully admitted permanent residents for at least ten years; and are in possession of an expiring or expired Form I-551 (Permanent Resident Card, previously known as the Alien Registration Card), and have properly filed a Form I-90 (Application to Replace Alien Registration Card), with appropriate fee, for renewal of this expiring/expired I-551, at the District or sub-office.

CATEGORIES OF RECORDS IN THE SYSTEM:

Records from this system are in automated and paper form. The records identify the sticker number applied to the back of the I-551 after an I-90 application and fee has been accepted. The system also includes the alien number and name of the applicant; the type and amount of fee remittance accepted; the location where the application was accepted; the date of the application; and the identification of the individual issuing the sticker.

AUTHORITY FOR MAINTENANCE OF THE SYSTEM:

8 U.S.C. Sections 1103, 1154, 1304, 1305, and 1360.

PURPOSE(S):

The system enables INS to track the issuance of the stickers, and provides for accountability and control of specific sticker issuance. In some instances, field inquiries of the system also will enable INS to determine if a particular sticker was properly issued and/or is a legitimate issuance.

ROUTINE USES OF RECORDS MAINTAINED IN THE SYSTEM, INCLUDING CATEGORIES OF USERS AND THE PURPOSES OF SUCH USES:

Relevant information contained in this system of records may be disclosed as follows:

A. To Federal, State, tribal, and local government law enforcement and regulatory agencies, foreign governments, and individuals and organizations during the course of investigation in the processing of a matter, or a proceeding within the purview of the immigration and nationality laws, to elicit information required by INS to carry out its functions and statutory mandates.

B. To a Federal, State, tribal, local or foreign government agency or organization, or international organization, lawfully engaged in collecting law enforcement intelligence information, whether civil or criminal, and/or charged with investigating, prosecuting, enforcing or implementing civil and/or criminal laws, related rules, regulations or orders, to enable these entities to carry out their law enforcement responsibilities, including the collection of law enforcement intelligence.

C. To either a party or the tribunal in a proceeding before a court or other adjudicative body before which INS or the Department of Justice (DOJ) is authorized to appear when any of the following is a party to litigation or has an interest in litigation and such records are determined by INS, or DOJ, to be relevant to the litigation: (1) The DOJ, or any DOJ component, or any subdivision thereof; (2) any DOJ employee in his or her official capacity; (3) any DOJ employee in his or her individual capacity where the DOJ has agreed to represent the employee or has authorized a private attorney to represent him or her; and (4) the United States, where the INS or the DOJ determines that the litigation is likely to affect it or any of its subdivisions.

D. To a Federal, State, local or foreign government agency in response to its request, in connection with the hiring or retention by such agency of an employee, the issuance of a security clearance, the reporting of an investigation of such an employee, the letting of a contract, or the issuance of a license, grant, loan or other benefit by the requesting agency, to the extent that the information is relevant and necessary to the requesting agency's decision on the matter.

E. To a Federal, State, local, tribal, or foreign government agency maintaining civil, criminal or other relevant enforcement information or other pertinent information, such as current licenses, if necessary to obtain information relevant to a decision of INS concerning the hiring or retention of an employee, the issuance of a security clearance, the reporting of an investigation of an employee, the letting of a contract, or the issuance of a license, grant or other benefit.

F. To the news media and the public pursuant to 28 CFR 50.2 unless it is determined that release of the specific information in the context of a particular case would constitute an unwarranted invasion of personal privacy.

G. To a Member of Congress or staff acting on the Member's behalf when the Member or staff requests the information on behalf of, and at the request of, the individual who is the subject of the record.

H. To the General Services Administration and the National Archives and Records Administration in records management inspections conducted under the authority of 44 U.S.C. 2904 and 2906.

I. To an attorney or representative acting on behalf an individual covered by this system of records in connection with any proceeding before the INS or the Executive Office for Immigration Review.

J. To contractors, grantees, experts, consultants, students, and others performing or working on a contract, service, grant, cooperative agreement, or other assignment for the Federal government, when necessary to accomplish an agency function related to this system of records.

K. Pursuant to subsection (b)(3) of the Privacy Act, the Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

POLICIES AND PRACTICES OF STORING, RETRIEVING, ACCESSING, RETAINING AND DISPOSING OF RECORDS IN THE SYSTEM STORAGE:

Information will be stored on magnetic disks and/or tape in INS Headquarters. Paper records will be stored in INS offices, file drawers, and/or filing cabinets.

RETRIEVABILITY:

Information will be retrievable by sticker number. Other specific information reports may be generated for quality control and verification purposes. The reports can be retrieved by date, location, issuing agent, and/or alien number.

SAFEGUARDS:

Most INS offices are located in buildings under security guard, with access limited to INS and other Federal Government employees and authorized visitors. All records are stored in spaces which are locked during non-duty office hours. Many records are stored in cabinets or machines which are also locked during non-duty office hours. Access to automated records is controlled by passwords and name identifications.

RETENTION AND DISPOSAL:

The sticker issuance data in the electronic tracking system is maintained for three years and then destroyed. The sticker issuance in manifest form is downloaded from the electronic system and maintained in case of inquiries. It is maintained for three years and then destroyed. The Form I-90 applications are mailed to the Service Centers where they are placed in application receipt files, maintained for ten years, and then destroyed. If a Form I-90 application is denied, it is placed in the alien file. NOTE: Alien files and the Central Index System (CIS) contain all relevant information pertaining to the permanent resident status of the applicant and are maintained for 75 years.

SYSTEM MANAGER AND ADDRESS:

Associate Commissioner, Field Services Operation, Immigration Services Division, Immigration and Naturalization Service, 801 I Street NW, Room 900, Washington, DC 20536.

NOTIFICATION PROCEDURE:

Any inquiries regarding specific sticker issuance information contained in this system should be addressed in writing to the System Manager listed above or to the Freedom of Information Act/Privacy Act (FOIA/PA) officer where the record is located (See System Location).

RECORD ACCESS PROCEDURE:

Requests for access to a record from this system shall be in writing. Clearly mark the envelope and letter “Privacy Act Request.” The requester shall provide his or her full name, the sticker issuance number, the general nature of the inquiry, and if possible the date that the application was filed at the INS office and the location of the INS office where the application was accepted. The requester also shall provide date and place of birth, verification of identity [in accordance with 8 CFR 103.21(b) or a sworn statement under penalty of perjury], his or her notarized signature, and any other information that may assist in identifying and locating the record. The requester also should provide a return address for transmitting the record(s) to be released.

CONTESTING RECORDS PROCEDURE:

Direct all requests to contest or amend information to the System Manager or FOIA/PA officer as indicated above. State clearly and concisely the information being contested, the reason for contesting it, and the proposed amendment thereof. Clearly mark the envelope “Privacy Act Amendment Request.” The record must be identified in the same manner as described for making a request for record access (see above). To facilitate the expeditious handling of the amendment request, include a copy of the response received to the Privacy Act Request.

RECORD SOURCE CATEGORIES:

Information contained in this system of records is obtained from the applicant during the issuance of an I-551 extension after an applicant has filed an I-90 to renew and expiring/expired I-551 in his or her possession.

SYSTEMS EXEMPTED FROM CERTAIN PROVISIONS OF THE ACT:

None.

[FR Doc. 01-1741 Filed 1-19-01; 8:45 am]

BILLING CODE 4410-10-M